FEDERAL COMMUNICATIONS COMMISSION

47 CFR Part 64

[CG Docket Nos. 10-51 and 03-123; DA 17-656]

Petition for Partial Reconsideration, or in the Alternative, Suspension of Action in Rulemaking Proceeding

AGENCY: Federal Communications Commission.

ACTION: Petition for partial reconsideration or suspension.

SUMMARY: A Petition for Partial Reconsideration, or in the Alternative Suspension of Compliance Deadline (Petition), has been filed in the Commission's rulemaking proceeding by Sorenson Communications, LLC.

DATES: Comments to the Petition must be filed on or before August 7, 2017. Reply Comments must be filed on or before July 31, 2017.

ADDRESSES: Federal Communications Commission, 445 12th Street SW., Washington, DC 20554.

FOR FURTHER INFORMATION CONTACT: Eliot Greenwald, Consumer and Governmental Affairs Bureau, email: Eliot.Greenwald@fcc.gov; phone: (202) 418-2235.

SUPPLEMENTARY INFORMATION: This is a summary of the Commission's document DA 17-656, released July 7, 2017. The full text of the Petition is available for viewing and copying at the FCC Reference Information Center, 445 12th Street SW., Room CY-A257, Washington, DC 20554 or may be accessed online via the Commission's Electronic Comment Filing System at: https://ecfsapi.fcc.gov/file/10530218217172/2017-05-30%20Sorenson%20Petition%20for%20Reconsideration%20re%20RUE%20Profile.pdf. The Commission will not send a Congressional Review Act (CRA) submission to Congress or the Government Accountability Office Pursuant to the CRA, 5 U.S.C. because no rules are being adopted by the Commission.

Subject: Structure and Practices of the Video Relay Service Program; Telecommunications Relay Services and Speech-to-Speech Services for Individuals with Hearing and Speech Disabilities, Report and Order, DA 17-76, published at 82 FR 19322, April 27, 2017, in CG Docket Nos. 10-51 and 03-123. This document is being published pursuant to 47 CFR 1.429(e). See also 47 CFR 1.4(b)(1) and 1.429(f), (g).

Number of Petitions Filed: 1.

Federal Communications Commission.
Karen Peltz Strauss,
Deputy Chief, Consumer and Governmental Affairs Bureau.

[FR Doc. 2017-15302 Filed 7-20-17; 8:45 am]

BILLING CODE 6712-01-P